DEPARTMENT OF COMMERCE

National Oceanic and Atmospheric Administration

[I.D. 080205C]

Endangered Species; File No. 1527

AGENCY: National Marine Fisheries Service (NMFS), National Oceanic and Atmospheric Administration (NOAA), Commerce.

ACTION: Notice; receipt of application.

SUMMARY: Notice is hereby given that the John A. Musick, Ph.D., Virginia Institute of Marine Science (VIMS), Gloucester Point, VA 23062, has applied in due form for a permit to take loggerhead (Caretta caretta), Kemp's ridley (Lepidochelys kempii), leatherback (Dermochelys coriacea), green (Chelonia mydas), and hawksbill (Eretmochelys imbricata) sea turtles for purposes of scientific research.

DATES: Written, telefaxed, or e-mail comments must be received on or before September 23, 2005.

ADDRESSES: The application and related documents are available for review upon written request or by appointment in the following office(s):

Permits, Conservation and Education Division, Office of Protected Resources, NMFS, 1315 East-West Highway, Silver Spring, MD 20910; phone (301)713-2289; fax (301)427-2521; and

Northeast Regional Office, NMFS, One Blackburn Drive, Gloucester, MA 01930-2298; phone (978)281-9328; fax (978)281-9394.

Written comments or requests for a public hearing on this application should be mailed to the Chief, Permits, Conservation and Education Division, F/PR1, Office of Protected Resources, NMFS, 1315 East-West Highway, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1527.

FOR FURTHER INFORMATION CONTACT: Patrick Opay or Shane Guan, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the proposed research is to study loggerhead, Kemp's ridley, leatherback, green, and hawksbill sea turtles in the waters of the Chesapeake Bay (Bay), and the Virginia (VA) and Maryland (MD) tributaries to the Bay to identify relative abundance over time; detect changes in sea turtle size and age composition; monitor and document movement and migration patterns; and to study sea turtle interactions with whelk pot gear. The applicant proposes to take up to 100 loggerhead, 30 Kemp's ridley, 10 leatherback, 10 green, and 5 hawksbill sea turtles each year over the course of a 5-year permit. Of the 100 loggerhead turtles taken annually, 74 would be taken in VA waters, and the remaining 26 would be taken in MD waters. Likewise, the numbers by state of the other species are: 22 Kemp's ridleys from VA and 8 from MD; 7 leatherbacks from VA and 3 from MD; 7 greens from VA and 3 from MD; and 3 hawksbills from VA and 2 from MD. Seventy-one of the loggerhead, 21 of the Kemp's ridley, 7 of the leatherback, 7 of the green, and 3 of the hawksbill sea turtles are expected to be caught in pound nets. The remaining turtles would be captured utilizing relocation trawls as part of dredging activities authorized under separate permits and then turned over to the applicant. All turtles would be blood sampled, measured, weighed when practicable, flipper tagged, and PIT tagged. A subset of these animals would have satellite or radio/sonic transmitters attached to their carapace, and would be laparoscopied and bone biopsied. Twenty loggerheads would be used in a whelk gear bycatch reduction study.

Dated: August 18, 2005.
Steve Leathery,
Chief, Permits, Conservation and Education Division, Office of Protected Resources, National Marine Fisheries Service.

[FR Doc. 05-16842 Filed 8-23-05; 8:45 am]

BILLING CODE 3510-22-S